DEPARTMENT OF JUSTICE

Federal Bureau of Prisons

Record of Decision; Final Supplemental Environmental Impact Statement for the Proposed Development of a Federal Correctional Institution and Federal Prison Camp on the Grounds of the United States Penitentiary in Leavenworth, KS

The U.S. Department of Justice, Federal Bureau of Prisons (BOP) announces the availability of the Record of Decision (ROD) concerning the Final Supplemental Environmental Impact Statement (FSEIS) for the proposed development of a Federal Correctional Institution (FCI) and Federal Prison Camp (FPC) on the grounds of the United States Penitentiary (USP) in Leavenworth, Kansas.

Background Information: Pursuant to Section 102 of the National Environmental Policy Act of 1969 and the Council of Environmental Quality Regulations found at 40 CFR parts 1500-1508, BOP has prepared Draft Supplemental and Final Supplemental Environmental Impact Statements (EISs) for the development of a medium-security FCI and a minimum-security satellite work camp, to replace the existing, aged correctional facilities.

Project Information: The mission of the BOP is to protect society by confining offenders in the controlled environments of prison and community-based facilities that are safe, humane, cost-efficient, and appropriately secure, and that provide work and other self-improvement opportunities to assist offenders in becoming law-abiding citizens.

A growing challenge to the BOP's mission is that an increasing number of federal correctional facilities and supporting infrastructure are aging, resulting in an ongoing need for new facilities and infrastructure. Among the oldest are the medium-security facility and federal prison camp at USP Leavenworth. In the FSEIS, BOP proposed to construct and operate a new FCI designed to house approximately 1,152 medium-security inmates and an FPC designed to house 256 minimum-security inmates with approximately 338 staff for operation. Development of a new FCI and FPC will help to meet the need for modern correctional facilities and infrastructure and to address the specific need for a new medium-security FCI and minimum-security FPC in Leavenworth to replace the existing, aged correctional facilities.

Once development is completed and the new facilities are activated, inmates housed at the USP and FPC will be transferred to the new facilities along with the complement of correctional officers and other staff. After this transfer, the existing USP and FPC will no longer house inmates.

The analysis conducted under NEPA guidelines address the following alternatives:

• No Action Alternative—A decision not to proceed with the proposed action to develop a new FCI/FPC.

• Alternative Locations—Locations other than Leavenworth, Kansas, for implementation of the proposed action and warranting only a brief explanation of the reasons for elimination.

• Action Alternatives—Alternative building location within the grounds of USP Leavenworth which best meets BOP requirements for development while minimizing potential adverse environmental impacts.

• Preferred Alternative—The alternative preferred by the BOP for implementation of the proposed action.

No reasonable alternatives outside the jurisdiction of the BOP (the lead agency) have been identified or warranted inclusion in the FSEIS. Development of the proposed FCI/FPC at USP Leavenworth under the East-1 plan is considered by the BOP to be the Preferred Alternative.

The BOP issued a Draft Supplemental EIS in November 2020 with publication of the Notice of Availability (NOA) in the Federal Register on November 20, 2020. The NOA provided for a 45-day public comment period which began on November 20, 2020, and ended on January 4, 2021. During the public comment period, the BOP held a virtual public hearing concerning the proposed action and the Draft Supplemental EIS on December 30, 2020. Approximately 39 individuals attended the public hearing.

The Final Supplemental EIS addressed comments received on the Draft Supplemental EIS. Publication of the NOA in the Federal Register concerning the Final Supplemental EIS occurred on February 26, 2021. The 30-day review period for receipt of public comments concerning the Final Supplemental EIS ended on March 29, 2021. The comments received on the Final Supplemental EIS were considered in the decision presented in the ROD.

BOP provided written notices of the availability of the Draft Supplemental EIS and the FSEIS in the Federal Register, a newspaper with local and regional circulations, and through publication on a website established for this EIS process at https://www.proposed-fci-fpc-leavenworth.com/communications.

Availability of Record of Decision: The Record of Decision and other information regarding this project are available on the project website at https://www.proposed-fci-fpc-leavenworth.com/communications or upon request.

For further information please contact Cheryl D. Ciccone, Acting Chief, or Kimberly S. Hudson, Site Selection Specialist, Construction and Environmental Review Branch, Federal Bureau of Prisons, 320 First Street NW, Room 901-5, Washington, DC 20534, Tel: 202-514-6470 Fax: 202-260-0702/Email: cciccone@ bop.gov/kshudson@bop.gov.

Cheryl D. Ciccone,
Acting Chief, Construction and Environmental Review Branch, Federal Bureau of Prisons.

[FR Doc. 2021-10575 Filed 5-20-21; 8:45 am]

BILLING CODE P